NUCLEAR REGULATORY COMMISSION

Sunshine Federal Register Notice

Agency Holding the Meetings: Nuclear Regulatory Commission.

Dates: Weeks of February 2, 9, 16, 23, March 2, 9, 2009.

Place: Commissioners' Conference Room, 11555 Rockville Pike, Rockville, Maryland.

Status: Public and Closed.

Week of February 2, 2009

Wednesday, February 4, 2009

1:25 p.m. Affirmation Session (Public Meeting) (Tentative).

a. AmerGen Energy Company, LLC (License Renewal for Oyster Creek Nuclear Generating Station), Docket No. 50-219-LR, Citizens' Petition for Review of LBP-07-17 and Other Interlocutory Decisions in the Oyster Creek Proceeding (Tentative).

b. Shaw Areva MOX Services (Mixed Oxide Fuel Fabrication Facility: Possession and Use License), LBP-08-11 (June 27, 2008) (Tentative).

This meeting will be webcast live at the Web address— http://www.nrc.gov

1:30 p.m. Briefing on Risk-Informed, Performance-Based Regulation (Public Meeting) (Contact: Gary Demoss, 301-251-7584).

This meeting will be webcast live at the Web address— http://www.nrc.gov

Thursday, February 5, 2009

9:30 a.m. Briefing on Uranium Enrichment—Part 1 (Public Meeting).

1:30 p.m. Briefing on Uranium Enrichment—Part 2 (Public Meeting) (Contact for both parts: Brian Smith, 301-492-3137).

Both parts of this meeting will be webcast live at the Web address— http://www.nrc.gov

3 p.m. Briefing on Uranium Enrichment (Closed—Ex. 1).

Week of February 9, 2009—Tentative

There are no meetings scheduled for the week of February 9, 2009.

Week of February 16, 2009—Tentative

There are no meetings scheduled for the week of February 16, 2009.

Week of February 23, 2009—Tentative

There are no meetings scheduled for the week of February 23, 2009.

Week of March 2, 2009—Tentative

Friday, March 6, 2009

9:30 a.m. Briefing on Guidance for Implementation of Security Rulemaking (Public Meeting) (Contact: Rich Correia, 301-415-7674).

This meeting will be webcast live at the Web address— http://www.nrc.gov.

Week of March 9, 2009—Tentative

There are no meetings scheduled for the week of March 9, 2009.

* * * * *

*The schedule for Commission meetings is subject to change on short notice. To verify the status of meetings, call (recording)—(301) 415-1292. Contact person for more information: Rochelle Bavol, (301) 415-1651.

* * * * *

Additional Information

The Briefing on Guidance for Implementation of Security Rulemaking (Public Meeting) previously scheduled on March 4, 2009 at 1:30 p.m. has been rescheduled on March 6, 2009 at 9:30 a.m.

* * * * *

The NRC Commission Meeting Schedule can be found on the Internet at: http://www.nrc.gov/about-nrc/policy-making/schedule.html

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to darlene.wright@nrc.gov.

January 29, 2009.
Rochelle C. Bavol,
Office of the Secretary.

[FR Doc. E9-2320 Filed 1-30-09; 4:15 pm]

BILLING CODE 7590-01-P